DEPARTMENT OF TRANSPORTATION

Surface Transportation Board

[STB Finance Docket No. 34435]

Ameren Energy Generating Company—Construction and Operation Exemption—Coffeen and Walshville, IL

AGENCY: Surface Transportation Board, Transportation.

ACTION: Notice of availability of environmental assessment and request for comments.

SUMMARY: The Surface Transportation Board's (Board) Section of Environmental Analysis (SEA) has prepared an Environmental Assessment (EA) in response to a petition filed by the Ameren Energy Generating Company. The petition seeks an exemption under 49 U.S.C. 10502 from the prior approval requirements of 49 U.S.C. 10901 for authority to construct and operate one of two rail lines: An approximately 13.5-mile line in Montgomery County, Illinois, or an approximately 4.6-mile line in Montgomery and Bond Counties, Illinois. The EA identifies the natural and man-made resources in the area of the proposed rail lines and analyzes the potential impacts of the proposal and alternatives to the proposal on these resources. Based on the information provided from all sources to date and its independent analysis, SEA preliminarily concludes that construction and operation of either of the proposed rail lines would have no significant environmental impacts if the Board imposes and the Ameren Electric Generating Company implements the recommended measures set forth in the EA. Copies of the EA have been served on all interested parties and will be made available to additional parties upon request. The entire EA is also available on the Board's Web site (http://www.stb.dot.gov) by clicking on the “Decisions & Notices” button that appears in the drop down menu for “E-LIBRARY,” and searching by Service Date (May 25, 2005) or Docket Number (FD 34435). SEA will consider all comments received when making its final environmental recommendations to the Board. The Board will then consider SEA's final recommendations and the complete environmental record in making its final decision in this proceeding.

DATES: The EA is available for public review and comment. Comments must be postmarked by June 30, 2005.

ADDRESSES: Comments (an original and one copy) should be sent in writing to: Surface Transportation Board, Case Control Unit, 1925 K Street, NW., Suite 500, Washington, DC 20423. The lower left hand corner of the envelope should be marked: Attention: Mr. David Navecky, Environmental Comments. Comments on the EA may also be filed electronically on the Board's Web site, http://www.stb.dot.gov, by clicking on the “E-FILING” link.

FOR FURTHER INFORMATION CONTACT: David Navecky by mail at the address above, by telephone at 202-565-1593 [FIRS for the hearing impaired (1-800-877-8339)], or by e-mail at naveckyd@stb.dot.gov.

By the Board, Victoria Rutson, Chief, Section of Environmental Analysis.
Vernon Williams,
Secretary.

[FR Doc. 05-10448 Filed 5-24-05; 8:45 am]

BILLING CODE 4915-00-P